DEPARTMENT OF LABOR

Employment and Training Administration

[TA-W-65,467]

Kenworth Truck Company, a Subsidiary of Paccar, Inc., Renton, WA; Notice of Negative Determination Regarding Application for Reconsideration

By application dated May 7, 2009, International Association of Machinists and Aerospace Workers, District Lodge, No. 160 requested administrative reconsideration of the Department's negative determination regarding eligibility to apply for Trade Adjustment Assistance (TAA) and Alternative Trade Adjustment Assistance (ATAA), applicable to workers and former workers of the subject firm. The denial notice was signed on April 14, 2009 and published in the Federal Register on April 30, 2009 (74 FR 19996).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the finding that imports of class 8 heavy duty trucks did not contribute importantly to worker separations at the subject facility and there was no shift of production to a foreign country. The subject firm did not import class 8 heavy duty trucks during the relevant period. The “contributed importantly” test is generally demonstrated through a survey of the workers' firm's declining domestic customers. In this case the survey was not conducted because the customers purchased all Class 8 heavy duty trucks exclusively from the subject firm.

The petitioner alleged that subject firm's competitors import heavy trucks and parts of heavy trucks, thus having an advantage over the subject firm in locating potential customers.

The impact of competitors on the domestic firms is revealed in an investigation through customer surveys and aggregate import analysis. In the case at hand, the Department solicited information from the customers of the subject firm to determine if customers purchased imported Class 8 heavy duty trucks. The information was intended to determine if competitor imports contributed importantly to layoffs at the subject firm. The investigation revealed no imports of Class 8 heavy duty trucks during the relevant period. The subject firm did not import class 8 heavy duty trucks nor was there a shift in production of class 8 heavy duty trucks from subject firm abroad during the relevant period. Furthermore, U.S. aggregate imports of Class 8 heavy duty trucks have been declining since 2006.

The petitioner also stated that other divisions of Kenworth Truck Company and a supplier of interior components for heavy duty trucks have been recently certified for TAA and thus workers of the subject facility should also be eligible for TAA.

The Kenworth Truck Company divisions indicated by the petitioner were certified eligible for TAA in January 2009 since the company shifted production of cabs for Class 8 trucks to Mexico. The certifications of these divisions are not relevant to this investigation as certified workers engaged in production of cabs are separately identifiable from workers of the subject firm who are engaged in production of Class 8 heavy duty trucks. The certification of a company supplying interior components for heavy duty trucks is also not relevant to this investigation.

When assessing eligibility for TAA, the Department exclusively considers shift in production of articles like or directly competitive with the ones manufactured at the subject firm during the relevant period (one year prior to the date of the petition). The issue of a shift in production by the subject firm to a foreign country was addressed during the initial investigation. It was revealed that the subject firm did not shift production of Class 8 heavy duty trucks during the relevant period.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 19th day of May 2009.
Elliott S. Kushner,
Certifying Officer, Division of Trade Adjustment Assistance.

[FR Doc. E9-14323 Filed 6-17-09; 8:45 am]

BILLING CODE 4510-FN-P